DEPARTMENT OF HOMELAND SECURITY

Publication and Release of the National Response Plan

AGENCY: Department of Homeland Security.

ACTION: Notice.

SUMMARY: This Notice informs the public that the Department of Homeland Security (DHS) has developed and published the National Response Plan, which is now available to the public.

Authority: Homeland Security Act of 2002, Public Law 107-296; Homeland Security Presidential Directive -5, Management of Domestic Incidents.

FOR FURTHER INFORMATION CONTACT: National Response Plan: Bob Shea, Operational Integration Staff, DHS, Washington, DC 20528, 202-282-9651 or Robert.shea@dhs.gov.

National Incident Management System: Gil Jamieson, National Incident Management System Integration Center, DHS/FEMA, Washington, DC 20472, 202-646-4090, or Gil.Jamieson@dhs.gov.

SUPPLEMENTARY INFORMATION: Homeland Security Presidential Directive -5 required the Secretary of Homeland Security to develop and administer a National Incident Management System and a National Response Plan. The National Incident Management System (NIMS), released in March 2004, established a unified and standardized approach within the United States for protecting citizens and managing homeland security incidents. The National Response Plan standardizes Federal incident management actions by integrating existing and formerly distinct processes. Using the comprehensive framework of the NIMS, the National Response Plan provides the structure and mechanisms for the coordination of Federal support to State, local, and tribal incident managers and for exercising direct Federal authorities and responsibilities. It is applicable to all Federal departments and agencies that may be requested to provide assistance or conduct operations in the context of actual or potential incidents of national significance.

The purpose of the National Response Plan is to establish a comprehensive, national, all-hazards approach to domestic incident management across a spectrum of activities including prevention, preparedness, response, and recovery. The National Response Plan incorporates the best practices and procedures from various incident management disciplines—homeland security, emergency management, law enforcement, firefighting, hazardous materials response, public works, public health, emergency medical services, and responder and recovery worker health and safety—and integrates them into a unified coordinating structure. As such, it is intended to replace the Initial National Response Plan, the Federal Response Plan, the U.S. Government Domestic Terrorism Concept of Operations Plan, and the Federal Radiological Emergency Response Plan, all of which are currently in effect.

The National Response Plan represents a true “national” framework in terms of both product and process. The National Response Plan development process included extensive vetting and coordination with Federal, State, local, and tribal agencies, nongovernmental organizations, private-sector entities, and the first-responder and emergency management communities across the country. The activation of the National Response Plan and its coordinating structures and protocols—either partially or fully—for specific incidents of national significance provides mechanisms for the coordination and implementation of a wide variety of incident management and emergency assistance activities. Included in these activities are Federal support to State, local, and tribal authorities; interaction with nongovernmental, private donor, and private-sector organizations; and the coordinated, direct exercise of Federal authorities, when appropriate.

The plan was approved by the Homeland Security Council and signed by 32 Federal departments and agencies, and nongovernmental organizations. The signatories are the Department of Agriculture, Department of Commerce, Department of Defense, Department of Education, Department of Energy, Department of Health and Human Services, Department of Homeland Security, Department of Housing and Urban Development, Department of the Interior, Department of Justice, Department of Labor, Department of State, Department of Transportation, Department of the Treasury, Department of Veterans Affairs, Central Intelligence Agency, Environmental Protection Agency, Federal Bureau of Investigation, Federal Communications Commission, General Services Administration, National Aeronautic and Space Administration, National Transportation Safety Board, Nuclear Regulatory Commission, Office of Personnel Management, Small Business Administration, Social Security Administration, Tennessee Valley Authority, U.S. Agency for International Development, U.S. Postal Service, American Red Cross, Corporation for National and Community Service, and National Voluntary Organizations Active in Disaster.

Implementation of the National Response Plan commenced on December 15, 2004 per a memorandum from the Secretary of Homeland Security. Implementation will occur in three phases over the period of one year. During the first 120 days of the implementation process, the Initial National Response Plan, the Federal Response Plan, the U.S. Government Domestic Terrorism Concept of Operations Plan, and the Federal Radiological Emergency Response Plan remain in effect. After April 14, 2005, these plans are superseded by the National Response Plan. Detailed implementation guidance and schedules are identified in the Letter of Instruction in the base plan of the document.

This Notice informs the public of the release and availability of the National Response Plan. The National Response Plan is available on the Department of Homeland Security's Web site at www.dhs.gov/nationalresponseplan. A hard copy or CD-ROM of the National Response Plan may be obtained by calling 800-480-2520.

Dated: January 28, 2005.
Bob Stephan,
Special Assistant to the Secretary, Department of Homeland Security.

[FR Doc. 05-2259 Filed 2-4-05; 8:45 am]

BILLING CODE 4410-10-P